DEPARTMENT OF COMMERCE

National Oceanic and Atmospheric Administration

[I.D. 101206B]

Magnuson-Stevens Act Provisions; Atlantic Highly Migratory Species; Exempted Fishing, Scientific Research, Display Permits, and Chartering Permits

AGENCY: National Marine Fisheries Service (NMFS), National Oceanic and Atmospheric Administration (NOAA), Commerce.

ACTION: Notice of intent; request for comments.

SUMMARY: NMFS announces its intent to issue Exempted Fishing Permits (EFPs), Scientific Research Permits (SRPs), Display Permits, Letters of Acknowledgment (LOAs) and Chartering Permits for the collection of Atlantic highly migratory species (HMS) in 2007. In general, EFPs, SRPs, Display Permits, and Chartering Permits would authorize collections of a limited number of Atlantic tunas, swordfish, billfishes, and sharks from Federal waters in the Atlantic Ocean and Gulf of Mexico for the purposes of scientific data collection and public display. The issuance of EFPs to Atlantic billfishes tournaments for the use of J-hooks to fish for blue marlin is also discussed in this notice. Typically, EFPs, SRPs, LOAs, Display Permits, and Chartering Permits would be valid from the date of issuance through December 31, 2007.

DATES: Written comments on these collection, research, and fishing activities will be considered by NMFS when issuing EFPs, SRPs, Display Permits, and/or Chartering Permits if received on or before December 27, 2006.

ADDRESSES: Comments may be submitted by any of the following methods:

• Email: SF1.101206B@noaa.gov. Include in the subject line the following identifier: “I.D. 101206B”.

• Mail: Margo Schulze-Haugen, Chief, Highly Migratory Species Management Division (F/SF1), NMFS, 1315 East-West Highway, Silver Spring, MD 20910.

• Fax: (301) 713-1917.

FOR FURTHER INFORMATION CONTACT: Jackie Wilson, by phone: (404) 806-7622; or by fax: (404) 806-9188; or Chris Rilling or Karyl Brewster-Geisz, by phone: (301) 713-2347; or by fax: (301) 713-1917.

SUPPLEMENTARY INFORMATION: EFPs, SRPs, Display Permits, and Chartering Permits are requested and issued under the authority of the Magnuson-Stevens Fishery Conservation and Management Act (Magnuson-Stevens Act) (16 U.S.C. 1801 et seq.) and/or the Atlantic Tunas Convention Act (ATCA) (16 U.S.C. 971 et seq.). Regulations at 50 CFR 600.745 and 635.32 govern scientific research activity, exempted fishing, chartering arrangements, and exempted educational activity with respect to Atlantic HMS. Scientific research is exempted from regulation under the Magnuson-Stevens Act, so NMFS does not issue EFPs for bonafide research activities (i.e., research conducted from a research vessel and not a commercial or recreational fishing vessel) involving species solely regulated under the Magnuson-Stevens Act. However, NMFS requests copies of scientific research plans, and NMFS indicates concurrence by issuing an LOA to researchers to indicate that the proposed activity meets the definition of research and is therefore exempt from regulation. Scientific research is not exempt under ATCA. Therefore, NMFS issues SRPs involving ATCA regulated species to researchers operating from bonafide research vessels, and EFPs to researchers operating from commercial or recreational fishing vessels.

Issuance of EFPs, SRPs, and Display Permits may be necessary for the collection of scientific data and for public display because the possession of certain species or size of HMS are prohibited, possession of billfishes on board commercial fishing vessels is prohibited, and/or because the commercial fisheries for bluefin tuna and large coastal sharks may be closed for extended periods, during which time the collection of live animals and/or biological samples would be otherwise prohibited. NMFS regulations at 50 CFR 635.32 regarding the implantation or attachment of archival tags in Atlantic HMS require prior authorization and a report on collection and implantation activities.

NMFS seeks public comment on its intent to issue EFPs for the purpose of collecting biological samples under at-sea fisheries observer programs. NMFS intends to issue EFPs to the Northeast and Southeast Observer programs to allow any NMFS employee or NMFS-approved contractor/observer to bring onboard and possess (for scientific research purposes, biological sampling, measurement, etc.) any Atlantic tuna, swordfish, shark, or billfish provided the fish is a tagged and recaptured fish, dead prior to being brought onboard, or specifically authorized for sampling by the Director of NMFS' Office of Sustainable Fisheries at the request of the Southeast Fisheries Science Center or the Northeast Fisheries Science Center. On average, several hundred swordfish and sharks are collected by at-sea observers under such EFPs in any given year. Collection of bluefin tuna for age and growth, genetic, and spawning information by at-sea-observers began in 2005.

NMFS received public comments on the final Environmental Impact Statement for the final Consolidated HMS Fishery Management Plan regarding the new requirement for billfish tournaments to use only circle hooks when fishing natural baits and natural bait/artificial lure combinations (October 2, 2006; 71 FR 58058). The commenters claimed that circle hooks are not necessary to reduce post-release injury and mortality of blue marlin when fishermen use either natural bait/artificial lure combinations or with heavy tackle (line test > 80 lb) trolling at fast speeds. In response to comments, NMFS stated that it would issue EFPs for billfish tournaments to collect additional scientific data on the impacts of J-hooks when fishing for blue marlin. NMFS has received comments during the HMS Advisory Panel meeting (October 3-4, 2006) as well as from billfish tournament directors that tournaments are not appropriate venues to collect scientific data due to the lack of standardized fishing practices and tournament operations. Accordingly, NMFS is continuing to examine more appropriate means of obtaining scientific data on the impacts of J-hooks when fishing for blue marlin. As such, NMFS is still considering the value of issuing EFPs to tournaments for this type of data collection. The Agency's decision on the issuance of these EFPs as well as alternative avenues NMFS might pursue to evaluate the impacts of J-hooks when fishing for blue marlin will be published in a future Federal Register notice.

NMFS is also seeking public comment on its intent to issue Display Permits for the collection of restricted species of sharks for public display in 2007. In the final 1999 Fishery Management Plan (FMP) for Atlantic Tunas, Swordfish, and Sharks (1999 FMP), NMFS established a 60 metric ton wet weight quota for the public display and research of sharks (combined). NMFS preliminarily determined that, based on average weight of sharks landed, approximately 3,000 sharks could be taken with this current quota. The actual number of sharks taken depends on the species and size of the sharks collected. NMFS believes that harvesting this amount for public display will have a minimal impact on the stock and that the number of sharks harvested for display and research will remain under the annual 60 metric ton quota. Future rulemaking may re-evaluate this quota in light of the results of recent shark stock assessments. Specifically, landings of sandbar sharks and dusky sharks collected under the auspices of an EFP, SRP, Display Permit, or LOA may be restricted more in 2007 than in previous years given the results of the shark stock assessments. In 2006, eight Display Permits were issued, authorizing the collection of 292 large coastal, 156 small coastal, and 64 prohibited sharks for display purposes. The total number reported as actually taken will not be known until early 2007. In 2005, of the 258 large coastal, 60 small coastal, and 72 prohibited sharks authorized for collection via the issuance of seven Display Permits, only 37 large coastal sharks, 53 small coastal sharks (48 of which were Atlantic sharpnose), and 4 prohibited species were reported taken from Federal waters. In 2005, 2.22 percent of the shark display and research quota was used for public display collections.

Authorized collections or exemptions may involve activities otherwise prohibited by regulations implementing the final Consolidated HMS FMP (October 2, 2006; 71 FR 58058). Display Permits, SRPs, and EFPs, if issued, may authorize recipients to fish for and possess tunas, billfish, swordfish, and sharks outside the applicable Federal commercial seasons, size limits and/or retention limits; to fish for and possess prohibited species; or to fish for and possess HMS collected for research purposes in closed areas. NMFS may consider exempted fishing applications for bycatch reduction research in closed regions of the Atlantic Ocean, Gulf of Mexico, and Caribbean Sea to test gear modifications and fishing techniques aimed to avoid incidental capture of non-target species. Any proposed research activities must be consistent with all applicable laws and regulations. NMFS will seek additional public comment on proposals that may be deemed controversial unless the research is being conducted by NOAA scientific researchers from bonafide NOAA research vessels.

Comments are also requested on the issuance of Chartering Permits to vessels fishing for HMS while operating under chartering arrangements within the EEZ of other nations. Chartering Permits allow a U.S. fishing vessel to fish in a manner consistent with another country's regulations without violating U.S. regulations and ensure that such vessels report to the proper authorities, consistent with International Commission for the Conservation of Atlantic Tunas (ICCAT) recommendations. To date, NMFS has only issued one Chartering Permit for a pelagic longline vessel.

Table 1 summarizes the number of exempted permits and authorized collections in 2005 and 2006, as well as the number of specimens collected in 2005. The number of specimens collected in 2006 will be available when all of the 2006 annual reports are submitted to NMFS in early 2007. In 2005, the number of specimens collected were greater than the number of authorized specimens for Billfish EFPs. This was due to more larvae from plankton tows and whole swordfish from commercial pelagic longline vessels being collected than anticipated by scientific researchers. Otherwise, the number of specimens collected was less than the number of authorized specimens. In all cases, mortality associated with an EFP, SRP, Display Permits, or LOA (except for larvae) were counted against the appropriate quota. A total of 32 exempted permits were issued by NMFS in 2005 for the collection of HMS, whereas the number of permits issued in 2006 increased to 37 permits. In both 2005 and 2006, the greatest number of exempted permits issued were Tuna EFPs followed by Shark Display Permits. HMS SRPs had the greatest number of specimens authorized for collection in 2005 and 2006 (mainly for the collection of larvae).

Table 1. Summary of HMS Exempted Permits Issued in 2005 and 2006. “HMS” refers to multiple species being collected under a given permit type.
| 2005: Number of Permits Issued | 2005: Number of Authorized Fish | 2005: Number of Authorized Larvae | 2005: Number of Fish Taken | 2005: Number of Larvae Taken | 2006: Number of Permits Issued | 2006: Number of Authorized Fish | 2006: Number of Authorized Larvae
EFP |  |  |  |  |  |  |  |
HMS³ | 4 | 677 | 200 | 47 | 0 | 4 | 1,100 | 0
Shark | 5 | 882 | 0 | 457 | 0 | 6 | 605 | 0
Tuna | 7 | 859 | 0 | 378 | 0 | 9 | 590 | 0
Billfish | 2 | 175 | 450 | 190¹ | 616² | 3 | 179 | 0
SRP |  |  |  |  |  |  |  |
HMS³ | 4 | 611 | 2,500 | 26 | 524 | 4 | 485 | 1,200
Shark | 3 | 850 | 0 | 19 | 0 | 2 | 400 | 0
Billfish | 0 | 0 | 0 | 0 | 0 | 1 | 0 | 500
Display |  |  |  |  |  |  |  |
HMS³ | 1 | 98 | 0 | 0 | 0 | 1 | 89 | 0
Shark | 6 | 379 | 0 | 94 | 0 | 7 | 505 | 0
Total | 32 | 4,531 | 3,150 | 1,211 | 1,140 | 37 | 3,953 | 1,700
LOA⁴ |  |  |  |  |  |  |  |
Shark | 4 | 2,484 | 0 | 37 | 0 | 1 | 2,853 | 0
1. Overage was due to an overage in collection of swordfish on commercial pelagic longline vessels.
2. Number of larvae collected are difficult to determine upon collection; larvae samples are collected, preserved and counted at a later date, so applicants cannot determine if they have exceeded their authorized limit at the time of collection.
3. The discrepancies in the number of authorized specimens listed in the 2005 notice (70 FR 71467) and this notice are due to a calculation error in the 2005 notice and the inclusion of additional species in this notice (i.e., the inclusion of “other tunas” comprised of albacore, bigeye, blackfin, skipjack, and yellowfin tuna).
4. Collections made under an LOA are not authorized; rather this estimated harvest for research is acknowledged by NMFS. All sources of mortality are accounted against the appropriate quota.

Final decisions on the issuance of any EFPs, SRPs, Display Permits, and Chartering Permits will depend on the submission of all required information about the proposed activities, NMFS' review of public comments received on this notice, consistency with relevant applicable laws and regulations, and any consultations with appropriate Regional Fishery Management Councils, states, or Federal agencies.

All requests for EFPs, SRPs, Display Permits, and Chartering Permits of a type or nature not addressed in this Federal Register notice will have a separate notice filed and separate public comment period.

Authority: 16 U.S.C. 971 et seq. and 16 U.S.C. 1801 et seq.

Dated: November 21, 2006.
Alan D. Risenhoover,
Director, Office of Sustainable Fisheries, National Marine Fisheries Service.

[FR Doc. E6-20004 Filed 11-24-06; 8:45 am]

BILLING CODE 3510-22-S